DEPARTMENT OF THE INTERIOR

Bureau of Land Management

[WO-300-9131-PP]

Information Notice of Planning Criteria for the Programmatic Environmental Impact Statement for Leasing of Geothermal Resources

AGENCY: Bureau of Land Management, Interior.

ACTION: Information Notice of Planning Criteria.

SUMMARY: On June 13, 2007, the Department of the Interior, Bureau of Land Management (BLM), and the United States Department of Agriculture, Forest Service (FS), published in the Federal Register [72FR32679] a Notice of Intent (NOI) to prepare a joint Programmatic Environmental Impact Statement (PEIS) to analyze the leasing of BLM- and FS-administered lands with potential for geothermal resources in 11 western states and Alaska. The Federal Land Policy and Management Act (FLPMA) requires the BLM to develop land use plans, also known as Resource Management Plans (RMPs), to guide the BLM's management of the public lands. The BLM's land use planning regulations, which implement FLPMA, require the BLM to publish, and provide for public review of, the proposed planning criteria that will guide the BLM's land use planning process. The purpose of this Information Notice is to identify the RMPs that the BLM may amend and set out the proposed planning criteria that would guide the BLM's planning amendment process. Please note that while the preparation of the PEIS is a joint project with the FS, this Notice applies only to public lands that the BLM manages and does not apply in any way to lands that the FS administers. The FS manages lands that are under its jurisdiction under a separate statutory and regulatory framework.

DATES: Comments concerning the BLM's preliminary list of RMPs to be amended (identified by Field Office) and proposed planning criteria should be received by June 16, 2008. Individuals, groups, or other agencies who responded to previous scoping efforts for this PEIS are not required to respond to this Notice. The BLM considered comments submitted in response to the previous Notice during development of the planning criteria proposed in this Notice.

ADDRESSES: You may submit comments by any of the following methods:

• E-mail: geothermal_EIS@blm.gov.

• Fax: 1-866-625-0707.

• U.S. Mail: Geothermal Programmatic EIS, c/o EMPS Inc., 182 Howard Street, Suite 110, San Francisco, CA 94105.

FOR FURTHER INFORMATION CONTACT: For further information, including information on how to comment, you may contact Jack G. Peterson, Bureau of Land Management, at 208-373-4048, Jack_G_Peterson@blm.gov or visit the PEIS Web site at http://www.blm.gov/Geothermal_EIS.

SUPPLEMENTARY INFORMATION: FLPMA requires the BLM to develop land use plans, also known as RMPs, to guide the BLM's management of the public lands. In order for geothermal resource leasing and development to take place on the public lands that the BLM manages, such activities must be provided for in these RMPs. The aforementioned NOI published by the BLM and the FS initiated a lengthy and comprehensive scoping process, including 10 public meetings held throughout the western United States. This Notice fulfills the BLM's obligation under FLPMA and the BLM's planning regulations (43 CFR 1610.2(f) and 43 CFR 1610.4-2) to notify the public that in response to input during the scoping process, the BLM has developed proposed planning criteria to guide the amendment of the listed RMPs, including the analysis of the amendments and their reasonable alternatives in the PEIS. Please note that while the preparation of the PEIS is a joint project with the FS, this Notice applies only to public lands that the BLM manages and does not apply in any way to lands that the FS administers. The FS manages lands that are under its jurisdiction under a separate statutory and regulatory framework.

Planning criteria are the constraints, standards, and guidelines that determine what the BLM will or will not consider during its planning process. As such, they establish parameters and help focus analysis of the issues identified in scoping, and structure the preparation of the PEIS in so far as it addresses amendment of BLM RMPs, including data collection, analysis and decision making. The BLM welcomes public comment on the following proposed planning criteria, which would be used in the development of the PEIS as it is prepared to analyze these BLM RMP amendments:

• The BLM will prepare the PEIS and BLM RMP amendments in compliance with the Federal Land Policy and Management Act, the Endangered Species Act, the Clean Water Act, the Clean Air Act, the National Environmental Policy Act and all other applicable laws, Executive Orders and BLM management policies.

• The BLM will use the PEIS as the analytical basis for any decision it makes to amend an individual land use plan as necessary to respond to the potential for increased levels of geothermal resource leasing and development on BLM-administered lands.

• The BLM will develop a reasonably foreseeable development (RFD) scenario to predict levels of development and will identify lands to be allocated as open, closed, and open with restrictive stipulations to geothermal leasing in the affected plans.

• The BLM will limit its amendment of these plans to geothermal resource leasing and development issues and will not address management of other resources, although the BLM will consider and analyze the impacts from this increased use on other managed resource values.

• The BLM will continue to manage other resources in the affected planning areas under the pre-existing terms, conditions and decisions in the applicable RMPs for those other resources.

• The BLM will recognize valid existing rights under the RMPs, as amended.

• The BLM will coordinate with local, state, tribal and Federal agencies in the PEIS and plan amendment process to strive for consistency with their existing plans and policies, to the extent practicable.

• The BLM will coordinate with tribal governments and will provide strategies for the protection of recognized traditional uses in the PEIS and plan amendment process.

• The BLM will take into account appropriate protection and management of cultural and historic resources in the PEIS and plan amendment process, and will engage in all required consultation.

• The BLM will recognize in the PEIS and plan amendments the specific niche occupied by public lands in the life of the communities that surround them and in the nation as a whole.

• The BLM will make every effort to encourage public participation throughout the process.

• The BLM has the authority to develop protective management prescriptions for lands with wilderness characteristics within RMPs. As part of the public involvement process for land use planning, the BLM will consider public input regarding lands to be managed to maintain wilderness characteristics.

• Environmental protection and energy production are both desirable and necessary objectives of sound land management practices and are not to be considered mutually exclusive priorities.

• The BLM will consider and analyze relevant climate change impacts in its land use plans and associated NEPA documents, including the anticipated climate change benefits of geothermal energy.

• The BLM will prepare the PEIS in compliance with the Geothermal Steam Act, as amended, and the legislative directives set forth in the Energy Policy Act of 2005.

• The BLM will use geospatial data that are automated within a Geographic Information System (GIS) to facilitate discussions of the affected environment, formulation of alternatives, analysis of environmental consequences, and display of results.

The following is a list of BLM Field Offices that manage lands that BLM has identified as having geothermal potential. You may view these areas on a map with a GIS overlay showing the BLM and the FS jurisdictional boundaries at http://www.blm.gov/Geothermal_EIS. Some BLM offices may decide not to use this PEIS and amendment process to amend certain RMPs that appear on this list because those offices may already have land use plan amendments or revisions underway or recently completed. Please contact your local BLM office for more information. In addition, the BLM will exclude many units or areas within certain RMPs from any consideration for geothermal development. The plan amendments will reflect the fact that some units or portions of the areas identified as having geothermal resource potential will not be developed because they are unavailable for leasing, either by statute, regulation or other authority. These designations are described at 43 CFR 3201.11, and include, but are not limited to: Lands where the Secretary has determined that issuing a lease would cause unnecessary or undue degradation to public lands and resources; lands contained within a unit of the National Park System, lands within a National Recreation Area; and lands where the Secretary determines after notice and comment that geothermal operations are reasonably likely to result in a significant adverse effect on a significant thermal feature within a National Park System unit, for example, the geothermal features in Yellowstone National Park; wilderness areas; wilderness study areas; fish hatcheries; wildlife management areas; Indian trust lands; and other areas referred to in the above regulation. As mentioned above, this Notice does not address the FS lands. Therefore, no affected Forests are listed below. The BLM Field Offices that manage lands that have geothermal resource potential are as follows (Where the name of the BLM Field Office that has jurisdiction over a Resource Area differs from the name of the District Office, the name of the District office appears in parentheses following the name of the Field Office. A table identifying the affected Field Offices along with the name of the affected RMP under its jurisdiction, which sometimes differ, will appear in the Draft EIS, and on the Web site above in the near future.

State | Field office (district office)
Alaska | Central Yukon (Fairbanks).
| Anchorage (Anchorage).
| Glennallen (Anchorage).
Arizona | Arizona Strip (Arizona Strip).
| Kingman (Colorado River).
| Lake Havasu (Colorado River).
| Yuma (Colorado River).
| Safford (Gila).
| Tucson (Gila).
| Hassayampa (Phoenix).
| Lower Sonoran (Phoenix).
California | Barstow (California Desert).
| El Centro (California Desert).
| Needles (California Desert).
| Palm Springs-South Coast (California Desert).
| Ridgecrest (California Desert).
| Alturas.
| Arcata.
| Bakersfield.
| Bishop.
| Eagle Lake.
| Hollister.
| Redding.
| Surprise.
| Ukiah.
Colorado | Columbine (San Juan).
| Del Norte (San Luis Valley).
| Dolores (San Juan).
| Glenwood Springs.
| Grand Junction.
| Gunnison.
| Kremmling.
| La Jara (San Luis Valley).
| Little Snake.
| Pagosa Springs (San Juan).
| Royal Gorge.
| Saguache (San Luis Valley).
| Uncompahgre.
| White River.
Idaho | Bruneau (Boise).
| Four Rivers (Boise).
| Owyhee (Boise).
| Cottonwood (Coeur d'Alene).
| Challis (Idaho Falls).
| Pocatello (Idaho Falls).
| Salmon (Idaho Falls).
| Upper Snake (Idaho Falls).
| Burley (Twin Falls).
| Jarbridge (Twin Falls).
| Shoshone (Twin Falls).
Montana | Billings.
| Butte.
| Dillon.
| Lewistown.
| Malta.
| Miles City.
| Missoula.
Nevada | Carson City.
| Battle Mountain.
| Carson City.
| Elko.
| Ely.
| Las Vegas.
| Winnemucca.
New Mexico | Rio Puerco (Albuquerque).
| Soccoro (Albuquerque).
| Farmington.
| Taos (Farmington).
| Las Cruces.
| Carlsbad (Pecos).
| Roswell (Pecos).
Oregon/Washington | Andrews (Burns).
| Three Rivers (Burns).
| Upper Willamette (Eugene).
| Klamath Falls (Lakeview).
| Lakeview (Lakeview).
| Ashland (Medford).
| Butte Falls (Medford).
| Central Oregon (Prineville).
| Deschutes (Prineville).
| Cascades (Salem).
| Border (Spokane).
| Wenatchee (Spokane).
| Baker (Vale).
| Jordan (Vale).
| Malheur (Vale).
Utah | Cedar City.
| Fillmore.
| Kanab.
| Richfield.
| Salt Lake.
| St. George.
| Vernal.
Wyoming | Buffalo.
| Casper.
| Cody.
| Kemmerer.
| Lander.
| Newcastle.
| Pinedale.
| Rawlins.
| Rock Springs.
| Worland.

You may submit comments in writing on the stated planning criteria and plans to be amended using one of the methods listed in the ADDRESSES section. Before including your address, phone number, e-mail address, or other personal identifying information in your comment, you should be aware that your entire comment—including your personal identifying information—may be made publicly available at any time. While you can ask us in your comment to withhold your personal identifying information from public review, we cannot guarantee that we will be able to do so.

Authority: 43 CFR 1610.2(f)(2).

Michael D. Nedd,
Assistant Director, Minerals and Realty Management, Bureau of Land Management.

[FR Doc. E8-11059 Filed 5-15-08; 8:45 am]

BILLING CODE 4310-84-P